DEPARTMENT OF ENERGY

Federal Energy Regulatory Commission

[Docket No. EG01-157-000, et al.]

Kentucky Mountain Power, LLC, et al.; Electric Rate and Corporate Regulation Filings

March 26, 2001.

Take notice that the following filings have been made with the Commission:

1. Kentucky Mountain Power, LLC

[Docket No. EG01-157-000]

Take notice that on March 22, 2001, Kentucky Mountain Power, LLC (KMP), a Kentucky limited liability company with its principal place of business at 2810 Lexington Financial Center, Lexington, Kentucky 40507, filed with the Federal Energy Regulatory Commission an application for determination of exempt wholesale generator status pursuant to Part 365 of the Commission's regulations.

KMP proposes to own two circulating fluidized bed steam electric generating units of approximately 525 MW total capacity in Knott County, Kentucky (Facility). The proposed Facility is expected to commence commercial operation in 2004. All output from the Facility will be sold by KMP exclusively at wholesale.

Comment date: April 16, 2001, in accordance with Standard Paragraph E at the end of this notice. The Commission will limit its consideration of comments to those that concern the adequacy or accuracy of the application.

2. EnviroPower of Illinois, LLC

[Docket No. EG01-159-000]

Take notice that on March 22, 2001, EnviroPower of Illinois, LLC (EPIL), an Illinois limited liability company with its principal place of business at 2810 Lexington Financial Center, Lexington, Kentucky 40507 filed with the Federal Energy Regulatory Commission an application for determination of exempt wholesale generator status pursuant to Part 365 of the Commission's regulations.

EPIL proposes to own two circulating fluidized bed steam electric generating units of approximately 500 MW total capacity in Franklin County, Illinois (Facility). The proposed Facility is expected to commence commercial operation in 2004. All output from the Facility will be sold by EPIL exclusively at wholesale.

Comment date: April 16, 2001, in accordance with Standard Paragraph E at the end of this notice. The Commission will limit its consideration of comments to those that concern the adequacy or accuracy of the application.

3. Puget Sound Energy, Inc.

[Docket No. ER01-1597-000]

Take notice that on March 21, 2001, Puget Sound Energy, Inc., as Transmission Provider, tendered for filing a Service Agreement for Firm Point-To-Point Transmission Service and a Service Agreement for Non-Firm Point-To-Point Transmission Service with American Electric Power Service Corporation (American), as Transmission Customer. A copy of the filing was served upon American.

Comment date: April 11, 2001, in accordance with Standard Paragraph E at the end of this notice.

4. Puget Sound Energy, Inc.

[Docket No. ER01-1596-000]

Take notice that on March 21, 2001, Puget Sound Energy, Inc., as Transmission Provider, tendered for filing a Service Agreement for Firm Point-To-Point Transmission Service and a Service Agreement for Non-Firm Point-To-Point Transmission Service with Coral Power LLC (Coral), as Transmission Customer. A copy of the filing was served upon Coral.

Comment date: May 5, 2001, in accordance with Standard Paragraph E at the end of this notice.

5. Puget Sound Energy, Inc.

[Docket No. ER01-1594-000]

Take notice that on March 21, 2001, Puget Sound Energy, Inc., as Transmission Provider, tendered for filing a Service Agreement for Firm Point-To-Point Transmission Service and a Service Agreement for Non-Firm Point-To-Point Transmission Service with Portland General Electric (PGE), as Transmission Customer. A copy of the filing was served upon PGE.

Comment date: April 11, 2001, in accordance with Standard Paragraph E at the end of this notice.

6. Entergy Services, Inc.

[Docket No. ER01-1593-000]

Take notice that on March 21, 2001, Entergy Services, Inc. (Entergy Services) tendered for filing with the Federal Energy Regulatory Commission an unexecuted Interconnection and Operating Agreement (the Agreement) between Entergy Services and the following parties: (1) Mississippi Delta Energy Agency (MDEA), a joint action agency organized and existing under the laws of the State of Mississippi, composed of the Clarksdale Public Utilities Commission of the City of Clarksdale, Mississippi (Clarksdale) and the Public Service Commission of Yazoo City of the City of Yazoo City Mississippi (Yazoo City); (2) Clarksdale; and (3) Yazoo City. Entergy Services requests that the Agreement be accepted for filing effective as of May 1, 2001, and requests waiver of the Commission's regulations to the extent necessary to permit the Agreement to become effective that date.

Comment date: April 11, 2001, in accordance with Standard Paragraph E at the end of this notice.

7. Illinois Power Company

[Docket No. ER01-1592-000]

Take notice that on March 21, 2001, Illinois Power Company (Illinois Power), 500 South 27th Street, Decatur, Illinois 65251-2200, tendered for filing the First Amendment to Service Agreement for Network Integration Transmission Service and a Network Operating Agreement entered into with Dynegy Power Marketing, Incorporated (DPM) pursuant to Illinois Power's Open Access Transmission Tariff. Illinois Power requests an effective date of March 1, 2001 for the First Amendment and accordingly seeks a waiver of the Commission's notice requirement. Illinois Power states that a copy of this filing has been sent to DPM.

Comment date: April 11, 2001, in accordance with Standard Paragraph E at the end of this notice.

8. Exelon Generation Company, LLC

[Docket No. ER01-1591-000]

Take notice that on March 21, 2001, Exelon Generation Company, LLC (Exelon Generation) tendered for filing a service agreement for wholesale power sales transactions between Exelon Generation and The New Power Company under Exelon Generation's wholesale power sales tariff, FERC Electric Tariff, Original Volume No. 1.

Comment date: April 11, 2001, in accordance with Standard Paragraph E at the end of this notice.

9. Geysers Power Company, LLC

[Docket No. ER98-441-025]

Take notice that on March 21, 2001, Geysers Power Company, LLC (Geysers Power) tendered for filing certain revised tariff sheets to its Must-Run Service Agreement under which Geysers Power provides reliability must-run services to the California Independent System Operator Corporation (ISO) from the Geysers Main Units. This filing is made in compliance with the Federal Energy Regulatory Commission's (Commission) letter order dated March 7, 2001 (Letter Order), accepting Geysers Power's November 27, 2000 revised RMR Agreement for filing, with the exception of Section 9.1(b)(v) of the RMR Agreement. Geysers Power's November 27 filing inadvertently retained certain previously effective language for Section 9.1(b)(v) which should have been deleted. Accordingly, Geysers Power is hereby submitting revised tariff sheets.

Comment date: April 11, 2001, in accordance with Standard Paragraph E at the end of this notice.

10. Edison Sault Electric Company

[Docket No. ER01-1586-000]

Take notice that on March 21, 2001, Edison Sault Electric Company (Edison Sault) tendered for filing an Assignment of Transmission Coordination Agreement (Assignment). Under the Assignment, Edison Sault has conveyed almost all of its rights, interests, and obligations under a Transmission Coordination Agreement with Cloverland Electric Cooperative (Cloverland) to the American Transmission Company, LLC (ATCLLC). The Assignment has been signed by Edison Sault, Cloverland, and ATCLLC.

Comment date: April 11, 2001, in accordance with Standard Paragraph E at the end of this notice.

11. Great Bay Power Corporation

[Docket No. ER01-1588-000]

Take notice that on March 21, 2001, Great Bay Power Corporation (Great Bay) tendered for filing a Short-Form Market-Based Wholesale Power Sales Tariff (Short-Form Tariff) and a service agreement with Select Energy, Inc under the Short-Form Tariff. The Short-Form Tariff will not replace Great Bay's existing market-based rate tariff, FERC Electric Tariff No. 2, Second Revised Volume No. 2. The Short-Form Tariff will allow Great Bay to enter into agreements with counterparties that have provisions other than those set forth in the Short-Form Tariff.

Great Bay requests an effective date of April 1, 2001 for its Short-Form Tariff and a waiver of the Commission's sixty-day notice requirement.

Comment date: April 11, 2001, in accordance with Standard Paragraph E at the end of this notice.

12. Nevada Power Company

[Docket No. ER01-1589-000]

Take notice that on March 21, 2001, Nevada Power Company (Nevada Power) tendered for filing revisions to the rates in its Electric Service Coordination Agreement, FERC Electric Tariff, First Revised Volume No. 4. This filing is being made to conform the rates in the Coordination Tariff with those in Nevada Power's OATT. Nevada Power has requested an effective date of March 22, 2001.

This filing has been served on Nevada Power's customers under the Coordination Tariff.

Comment date: April 11, 2001, in accordance with Standard Paragraph E at the end of this notice.

13. Consumers Energy Company

[Docket No. ER01-1587-000]

Take notice that on March 21, 2001, Consumers Energy Company (Consumers) tendered for filing an unexecuted Generator Interconnection and Operating Agreement Between Consumers and Kinder Morgan Michigan, LLC [KMPower] (Agreement). KMPower had requested that the unexecuted Agreement be filed. Consumers requested that the Agreement be allowed to become effective March 21, 2001.

Copies of the filing were served upon KMPower and the Michigan Public Service Commission.

Comment date: April 11, 2001, in accordance with Standard Paragraph E at the end of this notice.

14. Puget Sound Energy, Inc.

[Docket No. ER01-1595-000]

Take notice that on March 21, 2001, Puget Sound Energy, Inc., as Transmission Provider, tendered for filing a Service Agreement for Firm Point-To-Point Transmission Service and a Service Agreement for Non-Firm Point-To-Point Transmission Service with Public Service of Colorado (PSC), as Transmission Customer. A copy of the filing was served upon PSC.

Comment date: April 11, 2001, in accordance with Standard Paragraph E at the end of this notice.

15. EnviroPower of Indiana, LLC

[Docket No. EG01-158-000]

Take notice that on March 22, 2000, EnviroPower of Indiana, LLC (EPIN), an Indiana limited liability company with its principal place of business at 2810 Lexington Financial Center, Lexington, Kentucky 40507 filed with the Federal Energy Regulatory Commission an application for determination of exempt wholesale generator status pursuant to Part 365 of the Commission's regulations.

EPIN proposes to own circulating fluidized bed steam electric generating units of approximately 500 MW total capacity located in Sullivan County, Indiana (Facility). The proposed Facility is expected to commence commercial operation in 2004. All output from the Facility will be sold by EPIN exclusively at wholesale.

Comment date: April 16, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7973 Filed 3-30-01; 8:45 am]

BILLING CODE 6717-01-P